FEDERAL COMMUNICATIONS COMMISSION

47 CFR Part 73

[DA 04-1736; MB Docket No. 03-244, RM-10825]

Radio Broadcasting Services; New Market, Alabama and Tullahoma, TN

AGENCY: Federal Communications Commission.

ACTION: Final rule.

SUMMARY: The Audio Division, at the request of Tennessee Valley Radio, Inc., licensee of FM Station WHRP, Tullahoma, Tennessee, deletes Tullahoma, Tennessee, Channel 227C1, from the FM Table of Allotments, and allots Channel 227C2 at New Market, Tennessee, as the community's first local FM service, and modifies the license of FM Station WHRP to specify operation on Channel 227C2 at New Market. Previously, the Audio Division granted Station WHRP a license to specify operation on Channel 227C1 in lieu of Channel 227C. See BLH-19890717KC Channel 227C2 can be allotted to New Market, Alabama, in compliance with the Commission's minimum distance separation requirements with a site restriction of 5.2 km (3.2 miles) south of New Market. The coordinates for Channel 227C2 at New Market, Alabama, are 34-51-48 North Latitude and 86-25-38 West Longitude.

DATES: Effective August 23, 2004.

FOR FURTHER INFORMATION CONTACT: Deborah Dupont, Media Bureau, (202) 418-2180.

SUPPLEMENTARY INFORMATION: This is a synopsis of the Commission's Report and Order, MB Docket No. 03-244, adopted June 23, 2004, and released June 25, 2004.

The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the General Accounting Office pursuant to the Congressional Review Act, see U.S.C. 801(a)(1)(A).

List of Subjects in 47 CFR part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Alabama, is amended by adding New Market, Channel 227C2.

3. Section 73.202(b), the Table of FM Allotments under Tennessee, is amended by removing Tullahoma, Channel 227C.

Federal Communications Commission.
John A. Karousos,
Assistant Chief, Audio Division, Media Bureau.

[FR Doc. 04-16890 Filed 7-23-04; 8:45 am]

BILLING CODE 6712-01-P